DEPARTMENT OF ENERGY

Federal Energy Regulatory Commission

[Docket No. CP15-552-000]

Northern Natural Gas Company; Notice of Application

Take notice that on September 9, 2015, Northern Natural Gas Company (Northern) pursuant to section 7(c) of the Natural Gas Act (NGA), the Federal Energy and Regulatory Commission's (FERC) regulations under and 18 CFR part 157 filed in Docket No. CP15-552-000, an application for certification and all authorizations necessary to construct and operate new natural gas transportation facilities in Gaines County, Texas, as more fully set forth in the application which is on file with the Commission and open for public inspection. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Any questions concerning this application may be directed to: Michael T. Loeffler, Senior Director Certificates and External Affairs, Northern Natural Gas Company, P.O. Box 3330, Omaha, Nebraska 68103-0330, Phone: (402) 398-7103, FAX: (402) 398-7592, Email: mike.loeffler@nngco.com (402) 398-7103, or Bret Fritch, Senior Regulatory Analyst, at (402) 398-7140.

Specifically, Northern proposes to construct and operate a greenfield compressor station in Section 125, Block G, Gaines County, Texas. Plans include installation of two units: (1) Solar Taurus 70-10802S with approximately 11,152 horsepower (HP); and (2) Solar Taurus 60-7302S with approximately 6,937 HP. The combined units have an ISO rating of 18,089 HP. The suction side of the compressor station will be connected to the 30- inch-diameter Spraberry to Plains pipeline. The station will discharge to the 30-inch diameter Kermit to Beaver pipeline. The proposed Project includes the installation of a station suction scrubber, a station recycle control valve, lube-oil coolers, a discharge gas cooler, blowdown silencers, unit inlet air filters and exhaust systems, a backup generator, fuel gas heating skids, a fire/gas detection system, an air compressor and dryer system, two compressor buildings, a control building, an auxiliary building, a septic system and associated above-grade and below-grade piping, valves and instrumentation. The compressor buildings will contain noise-attenuating panels, insulation and air inlet/exhaust hoods. A new six-foot tall fence, topped by three rows of barbed wire, will surround the perimeter of the new compressor station yard. Facilities will provide for incremental peak-day firm service of 210,000 dekatherms per day (Dth/d). Northern will acquire an approximately 20-acre site for the new compressor station. Northern also requests herein approval for rolled-in rate treatment of the expansion costs. The estimated capital cost of the facilities proposed is $40,692,877.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit seven copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests, and interventions via the internet in lieu of paper. See 18 CFR 385.2001(a) (1) (iii) and the instructions on the Commission's Web site (www.ferc.gov) under the “e-Filing” link. Persons unable to file electronically should submit an original and 5 copies of the protest or intervention to the Federal Energy Regulatory Commission, 888 First Street NE., Washington, DC 20426.

Comment Date: 5:00 p.m. Eastern Time on October 13, 2015.

Dated: September 22, 2015.
Nathaniel J. Davis, Sr.,
Deputy Secretary.

[FR Doc. 2015-24533 Filed 9-25-15; 8:45 am]

BILLING CODE 6717-01-P